DEPARTMENT OF AGRICULTURE

Rural Business—Cooperative Service

Notice of Contract Proposals (NOCP) for the Advanced Biofuels Payment Program

AGENCY: Rural Business-Cooperative Service, United States Department of Agriculture (USDA).

ACTION: Notice.

SUMMARY: This Notice of Contract Proposals announces the availability of $15 million in fiscal year 2014 to make payments to advanced biofuel producers for the production of eligible advanced biofuels. Applications for participating in the Advanced Biofuel Payment Program for fiscal year 2014 were accepted from October 1 through October 31, 2013. This Notice is to advise those who have already applied for fiscal year 2014 funding how much funding is available and how to qualify for those funds. The funding for fiscal year 2014 is from the Agricultural Act of 2014 (2014 Farm Bill), Public Law 113-79.

DATES: Applications for participation in fiscal year 2014 were accepted from October 1 through October 31, 2013, in accordance with 7 CFR 4288.120(b). Applicants must also comply with the quarterly submission dates referenced in this Notice under IV(C)(2) and also contained in 7 CFR 4288.102 and 4288.130(d).

ADDRESSES: See the SUPPLEMENTARY INFORMATION for addresses concerning information for the Advanced Biofuel Payment Program for fiscal year 2014 funds.

FOR FURTHER INFORMATION CONTACT: For information about the Advanced Biofuel Payment Program assistance, please contact a USDA Rural Development Energy Coordinator, as provided in the SUPPLEMENTARY INFORMATION section of this Notice, or Lisa Noty, Energy Division, USDA Rural Development, 511 W. 7th Street, Atlantic, IA 50022. Telephone: (712) 243-2107 Extension 116. Email: lisa.noty@wdc.usda.gov.

SUPPLEMENTARY INFORMATION:

Fiscal Year 2014 Applications for the Advanced Biofuel Payment Program

An applicant (unless the applicant is an individual) must have a Dun and Bradstreet Data Universal Numbering System (DUNS) number, which can be obtained at no cost via a toll-free request line at 1-866-705-5711 or online at http://fedgov.dnb.com/webform. Complete applications must be submitted to the Rural Development State Office in the State in which the applicant's principal place of business is located.

Universal Identifier and System for Awards Management (SAM)

Unless exempt under 2 CFR 25.110, the applicant must:

(a) Be registered in the SAM prior to submitting an application or plan;

(b) Maintain an active SAM registration with current information at all times during which it has an active Federal award or an application or plan under consideration by the Agency; and

(c) Provide its DUNS number in each application or plan it submits to the Agency.

Rural Development Energy Coordinators

For further information on this program, please contact the applicable USDA Rural Development Energy Coordinator for your respective State, as identified via the following link: http://www.rurdev.usda.gov/BCP_Energy_CoordinatorList.html.

Paperwork Reduction Act

In accordance with the Paperwork Reduction Act of 1995, the information collection requirements associated with the Advanced Biofuel Payments Program, as covered in this Notice, have been approved by the Office of Management and Budget (OMB) under OMB Control Number 0570-0057.

Overview

Federal Agency Name: Rural Business—Cooperative Service (an agency of the United States Department of Agriculture (USDA) in the Rural Development mission area).

Contract Proposal Title: Advanced Biofuel Payment Program.

Announcement Type: Annual announcement.

Catalog of Federal Domestic Assistance Number (CFDA): The CFDA number for this Notice is 10.867.

Dates: The Advanced Biofuels Program sign-up period for fiscal year 2014 participation was October 1 to October 31, 2013.

Availability of Notice and Rule: This Notice and the interim rule for the Advanced Biofuel Payment Program are available on the USDA Rural Development Web site at http://www.rurdev.usda.gov/BCP_Biofuels.html.

I. Funding Opportunity Description

A. Purpose of the Program

The purpose of this program is to support and ensure an expanding production of advanced biofuels by providing payments to eligible advanced biofuel producers. Implementing this program not only promotes the Agency's mission of promoting sustainable economic development in rural America, but is an important part of achieving the Administration's goals for increased biofuel production and use by providing economic incentives for the production of advanced biofuels.

B. Statutory Authority

This program is authorized under 7 U.S.C. 8105.

C. Definition of Terms

The definitions applicable to this Notice are published at 7 CFR 4288.102.

II. Award Information

A. Available Funds

The Agency is authorized to provide $15 million for this program in fiscal year 2014 pursuant to the 2014 Farm Bill.

B. Approximate Number of Awards

The number of awards will depend on the number of participating advanced biofuel producers.

C. Range of Amounts of Each Payment

There is no minimum or maximum payment amount that an individual producer can receive. The amount that each producer receives will depend on the number of eligible advanced biofuel producers participating in the program for the respective fiscal year, the amount of advanced biofuels being produced by such advanced biofuel producers, and the amount of funds available.

D. Contract

For producers participating in this program for the first time, a contract will need to be entered into with the Agency and the contract period will continue indefinitely until terminated as provided for in 7 CFR 4288.121(d). For producers that participated in this program in the previous fiscal year, the contract period continues indefinitely until terminated as provided for in 7 CFR 4288.121(d).

E. Production Period

Payments to participating advanced biofuel producers under this Notice will be made on actual eligible advanced biofuels produced from October 1, 2013, through September 30, 2014, in accordance with 7 CFR part 4288 subpart B.

F. Type of Instrument

Payment.

III. Eligibility Information

A. Eligible Applicants

To be eligible for this program, an applicant must meet the eligibility requirements specified in 7 CFR 4288.110.

B. Biofuel Eligibility

To be eligible for payment, an advanced biofuel must meet the eligibility requirements specified in 7 CFR 4288.111.

C. Payment Eligibility

To be eligible for program payments, an advanced biofuel producer must maintain the records specified in 7 CFR 4288.113.

IV. Application and Submission Information:

A. Address To Request Applications

Annual Application, Contract, and Payment Request forms are available from the USDA Rural Development State Office, Rural Development Energy Coordinator. The list of Rural Development Energy Coordinators is provided in the SUPPLEMENTARY INFORMATION section of this Notice.

B. Content and Form of Submission

The enrollment provisions, including application content and form of submission, are specified in 7 CFR 4288.120 and 4288.121.

C. Submission Dates and Times

(1) Enrollment. Advanced biofuel producers who expect to produce eligible advanced biofuel at any time during fiscal year 2014 must enroll in the program by the dates identified in this Notice. Applications received after the identified dates, regardless of their postmark, will not be considered by the Agency. Producers who participated in this Program in any previous fiscal year must submit a new application as identified above to be considered.

(2) Payment applications. Advanced biofuel producers must submit Form RD 4288-3, “Advanced Biofuel Payment Program—Payment Request,” for each of the four Federal fiscal quarters for each fiscal year. Pay requests for the first and second quarter of fiscal year 2014 must be submitted by 4:30 p.m. July 16, 2014, July 31, 2014, for the third quarter; and October 31, 2014, for the fourth quarter. Neither complete nor incomplete payment applications received after such dates and times will be considered, regardless of the postmark on the request. If any of these deadlines falls on a weekend or a federally-observed holiday, the deadline is the next Federal business day.

D. Funding Restrictions

Not more than 5 percent of the funds in each fiscal year will be made available to eligible producers with a refining capacity (as determined for the prior fiscal year) exceeding 150,000,000 gallons per year of a liquid advanced biofuels or exceeding 15,900,000 million British Thermal Units per year of biogas and solid advanced biofuel. (In calculating whether a producer meets either of these capacities, production of all advanced biofuel facilities in which the producer has 50 percent or more ownership will be totaled.) The Agency will provide payments to eligible solid advanced biofuels produced from forest biomass of not more than 5 percent of available program funds in each fiscal year. The remaining funds will be made available to all other producers.

E. Payment Provisions

Payments will be made according to the provisions specified in 7 CFR 4288.130 through 4288.137. Producers submitting payment requests for fiscal year 2014 first and second quarter production after July 16, 2014 will not be paid. Payment requests are required to be submitted in accordance with 7 CFR 4288.130(d). The Biofuel Payment Program Annual Application, Form RD 4288-1, must have been submitted within the required timeframe.

V. Administration Information

A. Notice of Eligibility

The provisions of 7 CFR 4288.112 apply to this Notice. These provisions include notifying an applicant determined to be eligible for participation and assigning such applicant a contract number and notifying an applicant determined to be ineligible, including the reason(s) the applicant was rejected and providing such applicant appeal rights as specified in 7 CFR 4288.103.

B. Administrative and National Policy Requirements

(1) Review or appeal rights. A person may seek a review of an adverse agency decision or appeal to the National Appeals Division as provided in 7 CFR 4288.103.

(2) Compliance with other laws and regulations. The provisions of 7 CFR 4288.104 apply to this Notice, which includes requiring advanced biofuel producers to be in compliance with other applicable Federal, State, and local laws.

(3) Oversight and monitoring. The provisions of 7 CFR 4288.105 apply to this Notice, which includes the right of the Agency to verify all payment requests and subsequent payments and the requirement that each eligible advanced biofuel producer make available at one place at all reasonable times for examination by representatives of USDA, all books, papers, records, contracts, scale tickets, settlement sheets, invoices, written price quotations, and other documents related to the program that are within the control of such advanced biofuel producer for not less than 3 years from each Program payment date.

(4) Exception authority. The provisions of 7 CFR 4288.107 apply to this Notice.

(5) Unauthorized Assistance. The provision of 7 CFR 4288.135 apply to this Notice.

C. Environmental Review

This document has been reviewed in accordance with 7 CFR part 1940, subpart G, “Environmental Program.” RBS has determined that this action does not constitute a major Federal action significantly affecting the quality of the human environment, and in accordance with the National Environmental Policy Act (NEPA) of 1969, 42 U.S.C. 4321 et seq, this regulation is a Categorical Exclusion. Payment applications will be reviewed individually to determine compliance with NEPA.

VII. Agency Contacts

For assistance on this payment program, please contact a USDA Rural Development Energy Coordinator, as provided in the SUPPLEMENTARY INFORMATION section of this Notice, or Lisa Noty, Energy Division, USDA Rural Development, 511 W. 7th Street, Atlantic, IA. Telephone: (712) 243-2107 extension 116. Email: lisa.noty@wdc.usda.gov.

VIII. Nondiscrimination Statement

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means of communication of program information (Braille, large print, audiotape, etc.) should contact USDA's TARGET center at (202) 720-2600 (voice and TDD).

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing, or have speech disabilities and you wish to file a program complaint please contact USDA through the Federal Relay Service at (800) 877-8339 or (800) 845-6136 (in Spanish). USDA is an equal opportunity provider and employer.

Dated: June 10, 2014.
Lillian E. Salerno,
Administrator, Rural Business-Cooperative Service.

[FR Doc. 2014-14024 Filed 6-13-14; 8:45 am]

BILLING CODE 3410-XY-P